GENERAL SERVICES ADMINISTRATION

[Notice-Q-2023-01; Docket No. 2023-0002; Sequence No. 4]

Request for Nominations; Federal Secure Cloud Advisory Committee

AGENCY: Federal Acquisition Service (Q), General Services Administration (GSA).

ACTION: Notice. The U.S. General Services Administration (GSA) is seeking nominations for membership to the Federal Secure Cloud Advisory Committee (the Committee).

SUMMARY: GSA is seeking nominations for membership to the Federal Secure Cloud Advisory Committee (hereinafter “the Committee” or “the FSCAC”), a Federal advisory committee required by statute.

DATES: GSA will consider complete nominations that are received no later than Thursday, February 9, 2023.

ADDRESSES: Nominations will be accepted electronically. Please submit nominations via https://forms.gle/iuBc67bMYjo1xB5V6, and email accompanying documents to fscac@gsa.gov with the subject line: FSCAC NOMINATION—[Nominee Name].

FOR FURTHER INFORMATION CONTACT: Zach Baldwin, Federal Risk and Authorization Management Program, 202-536-8216, fscac@gsa.gov.

SUPPLEMENTARY INFORMATION:

Background

GSA, in compliance with the FedRAMP Authorization Act of 2022, is required to establish the Federal Secure Cloud Advisory Committee (FSCAC), a statutory advisory committee in accordance with the provisions of FACA (5 U.S.C. 10). The Federal Risk and Authorization Management Program (FedRAMP) within GSA is responsible for providing a standardized, reusable approach to security assessment and authorization for cloud computing products and services that process unclassified information used by agencies.

The FSCAC will provide advice and recommendations to the Administrator of GSA, the FedRAMP Board, and agencies on technical, financial, programmatic, and operational matters regarding the secure adoption of cloud computing products and services. The FSCAC will ensure effective and ongoing coordination of agency adoption, use, authorization, monitoring, acquisition, and security of cloud computing products and services to enable agency mission and administrative priorities. The purposes of the Committee are:

• To examine the operations of FedRAMP and determine ways that authorization processes can continuously be improved, including the following:

○ Measures to increase agency reuse of FedRAMP authorizations.

○ Proposed actions that can be adopted to reduce the burden, confusion, and cost associated with FedRAMP authorizations for cloud service providers.

○ Measures to increase the number of FedRAMP authorizations for cloud computing products and services offered by small businesses concerns (as defined by section 3(a) of the Small Business Act (15 U.S.C. 632(a)).

○ Proposed actions that can be adopted to reduce the burden and cost of FedRAMP authorizations for agencies.

• Collect information and feedback on agency compliance with and implementation of FedRAMP requirements.

• Serve as a forum that facilitates communication and collaboration among the FedRAMP stakeholder community.

The Federal Secure Cloud Advisory Committee will meet no fewer than three (3) times a calendar year Meetings shall occur as frequently as needed, called, and approved by the DFO. Meetings will be held virtually or in person. Members will serve without compensation and may be allowed travel expenses, including per diem, in accordance with 5 U.S.C. 5703.

The Committee shall be comprised of not more than 15 members who are qualified representatives from the public and private sectors, appointed by the Administrator, in consultation with the Director of OMB, as follows:

i. The GSA Administrator or the GSA Administrator's designee, who shall be the Chair of the Committee.

ii. At least one representative each from the Cybersecurity and Infrastructure Security Agency and the National Institute of Standards and Technology.

iii. At least two officials who serve as the Chief Information Security Officer within an agency, who shall be required to maintain such a position throughout the duration of their service on the Committee.

iv. At least one official serving as Chief Procurement Officer (or equivalent) in an agency, who shall be required to maintain such a position throughout the duration of their service on the Committee.

v. At least one individual representing an independent assessment organization.

vi. At least five representatives from unique businesses that primarily provide cloud computing services or products, including at least two representatives from a small business (as defined by section 3(a) of the Small Business Act (15 U.S.C. 632(a))).

vii. At least two other representatives from the Federal Government as the Administrator determines to be necessary to provide sufficient balance, insights, or expertise to the Committee.

Each member shall be appointed for a term of three (3) year terms, except the initial terms, which may be staggered one (1), two (2) or three (3) year terms to establish a rotation in which one third of the members are selected. No member shall be appointed for more than two (2) consecutive terms nor shall any member serve for more than six (6) consecutive years. GSA values opportunities to increase diversity, equity, inclusion and accessibility on its federal advisory committees.

Members will be designated as Regular Government Employees (RGEs) or Representative members as appropriate and consistent with Section 3616(d) of the FedRAMP Authorization Act of 2022. GSA's Office of General Counsel will assist the Designated Federal Officer (DFO) to determine the advisory committee member designations. Representatives are members selected to represent a specific point of view held by a particular group, organization, or association. Members who are full time or permanent part-time Federal civilian officers or employees shall be appointed to serve as Regular Government Employee (RGE) members. In accordance with OMB Final Guidance published in the Federal Register on October 5, 2011 and revised on August 13, 2014, federally registered lobbyists may not serve on the Committee in an individual capacity to provide their own individual best judgment and expertise, such as RGEs members. This ban does not apply to lobbyists appointed to provide the Committee with the views of a particular group, organization, or association, such as Representative members.

Nominations

Nominations for membership on the Committee will be accepted until Thursday, February 9, 2023. There are two parts to submitting a nomination. First, complete the information requested via this electronic form https://forms.gle/iuBc67bMYjo1xB5V6. Next, email your CV or resume and a letter of endorsement from your organization or organization's leadership to fscac@gsa.gov with the subject line: FSCAC NOMINATION—[Nominee Name].

Federal agencies may nominate qualified federal employees for Federal membership.

Non-Federal nominees must meet the following criteria in accordance with the FedRAMP Authorization Act of 2022:

• Individuals representing an independent assessment organization; or

• Representatives from unique businesses that primarily provide cloud computing services or products, including at least 2 representatives from a small business concern (as defined by section 3(a) of the Small Business Act (15 U.S.C. 632(a))).

Brian Conrad,
FedRAMP Director (Acting)/Cybersecurity Program Manager, Federal Risk and Authorization Management Program, General Services Administration.

[FR Doc. 2023-01481 Filed 1-24-23; 8:45 am]

BILLING CODE 6820-34-P